THE PRESIDENT

3 CFR

Executive Order 13167 of September 15, 2000

Amendment to Executive Order 13147, Increasing the Membership of the White House Commission on Complementary and Alternative Medicine Policy

Correction

In Executive Order 13167 of September 15, 2000, in the issue of Wednesday, September 20, 2000, page 54079 should read 57079.

[FR Doc. C0-24364 Filed 9-21-00; 8:45 am]

BILLING CODE 1505-01-D